ENVIRONMENTAL PROTECTION AGENCY

[EPA-HQ-OPP-2023-0074; FRL-10909-01-OCSPP]

Cancellation Order for Certain Pesticide Registrations and Amendments To Terminate Uses

AGENCY: Environmental Protection Agency (EPA).

ACTION: Notice.

SUMMARY: This notice announces EPA's order for the cancellations and amendments to terminate uses, voluntarily requested by the registrants, and accepted by the Agency, pursuant to the Federal Insecticide, Fungicide, and Rodenticide Act (FIFRA). This cancellation order follows a March 10, 2023, Federal Register Notice of Receipt of Requests from the registrants listed in Table 3 of Unit II, to voluntarily cancel and amend to terminate uses of certain product registrations. In the March 10, 2023, notice, EPA indicated that it would issue an order implementing the cancellations and amendments to terminate uses, unless the Agency received substantive comments within the 30-day comment period that would merit its further review of these requests, or unless the registrants withdrew their requests. The Agency received one comment on the notice, but it did not merit its further review of the requests. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are effective August 30, 2023.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2023-0074, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744. Please review the visitor instructions and additional information about the docket available at https://www.epa.gov/dockets.

II. What action is the Agency taking?

This notice announces the cancellations and amendments to terminate uses, as requested by registrants, of products registered under FIFRA section 3 (7 U.S.C. 136a). These registrations are listed in sequence by registration number in Tables 1 and 2 of this unit.

Table 1—Product Cancellations
Registration No. | Company No. | Product name | Active ingredients
279-2862 | 279 | Niagara Furadan 75 Base | Carbofuran (A) (090601/1563-66-2)—(75%).
279-3038 | 279 | Furadan 85 DB | Carbofuran (A) (090601/1563-66-2)—(85%).
279-3060 | 279 | Carbofuran Technical | Carbofuran (A) (090601/1563-66-2)—(95%).
279-3114 | 279 | Capture 2EC-Cal Insecticide/Miticide | Bifenthrin (A) (128825/82657-04-3)—(25.1%).
279-3244 | 279 | Capture 1.15G Insecticide/Miticide | Bifenthrin (A) (128825/82657-04-3)—(1.15%).
279-3257 | 279 | Double Threat CP Insecticide | Bifenthrin (A) (128825/82657-04-3)—(25.1%), Spinosad (A) (110003/131929-60-7)—(44.2%).
279-3271 | 279 | Double Threat Insecticide | Bifenthrin (A) (128825/82657-04-3)—(12.2%), Spinosad (A) (110003/131929-60-7)—(10.7%).
279-3440 | 279 | F9210-1 Insecticide | Bifenthrin (A) (128825/82657-04-3)—(7.87%), Imidacloprid (A) (129099/138261-41-3)—(13.83%), Zeta-Cypermethrin (A) (129064/)—(2.7%).
279-3613 | 279 | F5555-2 MUP | Bifenthrin (A) (128825/82657-04-3)—(19%).
8660-153 | 8660 | Parker Fertilizer + 0.2% Dimension | Dithiopyr (A) (128994/97886-45-8)—(.2%).
8660-154 | 8660 | Herbicide Granules Formula D-17 | Dithiopyr (A) (128994/97886-45-8)—(.17%).
8660-155 | 8660 | Parker Fertilizer + 0.083% Dimension | Dithiopyr (A) (128994/97886-45-8)—(.083%).
8660-157 | 8660 | Dimension 270-G A Granule Preemergence Turf Herbicide | Dithiopyr (A) (128994/97886-45-8)—(.27%).
8660-158 | 8660 | Polyon Turf Fertilizer Plus Dimension 75 Crabgrass Preventer | Dithiopyr (A) (128994/97886-45-8)—(.075%).
8660-159 | 8660 | Herbicide Granules Formula D-11 | Dithiopyr (A) (128994/97886-45-8)—(.11%).
8660-160 | 8660 | Polyon Turf Fertilizer Plus Dimension 140 Crabgrass Preventer | Dithiopyr (A) (128994/97886-45-8)—(.14%).
8660-167 | 8660 | Herbicide Granules Formula D6-25 | Dithiopyr (A) (128994/97886-45-8)—(.25%).
9779-293 | 9779 | Phorate 20-G | Phorate (A) (057201/298-02-2)—(20%).
32802-83 | 32802 | Howard Johnson's Ronstar 1.0% Plus Turf Fertilizer Herbicide | Oxadiazon (A) (109001/19666-30-9)—(1%).
43670-4 | 43670 | Intersept PC-20 | Phosphoric Acid, Bis(2-Ethylhexyl) Ester, Compd. With 2,2 & Apos;-(Coco Alkylimino) Bis (Ethanol) (129079/68649-38-7)—(13.28%), Phosphoric Acid, Mono(2-Ethylhexyl) Ester (111286/1070-03-7)—(3.54%), Phosphoric Acid, Mono(2-Ethylhexyl) Ester, Compds. With Diethanolamine N-Coco Alkyl Derivs. (1:1) (129080/120579-32-0)—(3.18%).
66222-1 | 66222 | Captan 50-WP | Captan (081301/133-06-2)—(48.93%).
81598-12 | 81598 | Rotam Dicamba Technical | Dicamba (029801/1918-00-9)—(98.9%).
CO-160002 | 100 | Gramoxone SL 2.0 | Paraquat dichloride—(30.1%).
FL-100004 | 279 | Fyfanon ULV AG Ultra Low Volume Concentrate Insecticide | Malathion (No Inert Use) (057701/121-75-5)—(96.5%).
FL-130002 | 279 | Fyfanon 57% EC | Malathion (No Inert Use) (057701/121-75-5)—(57%).
FL-130003 | 279 | Fyfanon ULV AG | Malathion (No Inert Use) (057701/121-75-5)—(96.5%).
GA-130002 | 279 | Fyfanon ULV AG | Malathion (No Inert Use) (057701/121-75-5)—(57%).
ID-040011 | 62719 | Stinger | Clopyralid, Monoethanolamine Salt (A) (117401/57754-85-5)—(40.9%).
ID-130001 | 61842 | Linex 4L Herbicide | Linuron (A) (035506/330-55-2)—(40.6%).
ID-170008 | 62719 | Stinger | Clopyralid, Monoethanolamine Salt (A) (117401/57754-85-5)—(40.9%).
IN-130001 | 10163 | Malathion 8 | Malathion (No Inert Use) (057701/121-75-5)—(79.5%).
IN-130002 | 10163 | Malathion 8 | Malathion (No Inert Use) (057701/121-75-5)—(79.5%).
KS-150005 | 13808 | Zinc Phosphide Prairie Dog Bait | Zinc phosphide (Zn3P2) (088601/1314-84-7)—(2%).
MA-130001 | 279 | Fyfanon ULV AG | Malathion (No Inert Use) (057701/121-75-5)—(96.5%).
MA-130002 | 279 | Fyfanon 57% EC | Malathion (No Inert Use) (057701/121-75-5)—(57%).
MD-130003 | 10163 | Malathion 8 | Malathion (No Inert Use) (057701/121-75-5)—(79.5%).
MD-130004 | 10163 | Malathion 8 | Malathion (No Inert Use) (057701/121-75-5)—(79.5%).
MI-130002 | 69969 | Avipel (Dry) Corn Seed Treatment | Anthraquinone (A) (122701/84-65-1)—(50%).
MI-140004 | 279 | Fyfanon ULV AG | Malathion (No Inert Use) (057701/121-75-5)—(96.5%).
NC-130006 | 279 | Fyfanon ULV AG | Malathion (No Inert Use) (057701/121-75-5)—(96.5%).
NH-130001 | 279 | Fyfanon 57% EC | Malathion (No Inert Use) (057701/121-75-5)—(57%).
NH-130002 | 279 | Fyfanon 57% EC | Malathion (No Inert Use) (057701/121-75-5)—(57%).
NH-130003 | 10163 | Malathion 8 | Malathion (No Inert Use) (057701/121-75-5)—(79.5%).
NH-130004 | 10163 | Malathion 8 | Malathion (No Inert Use) (057701/121-75-5)—(79.5%).
NJ-130005 | 279 | Fyfanon ULV AG | Malathion (No Inert Use) (057701/121-75-5)—(96.5%).
NJ-130006 | 279 | Fyfanon ULV AG | Malathion (No Inert Use) (057701/121-75-5)—(96.5%).
NJ-130007 | 279 | Fyfanon 57% EC | Malathion (No Inert Use) (057701/121-75-5)—(57%).
NJ-130008 | 279 | Fyfanon 57% EC | Malathion (No Inert Use) (057701/121-75-5)—(57%).
NJ-130009 | 279 | Fyfanon 57% EC | Malathion (No Inert Use) (057701/121-75-5)—(57%).
OH-150002 | 279 | Hero Insecticide | Bifenthrin (A) (128825/82657-04-3)—(11.25%), Zeta-Cypermethrin (A) (129064/)—(3.75%).
OR-020030 | 62719 | Dithane DF Rainshield | Mancozeb (014504/8018-01-7)—(75%).
OR-170014 | 81880 | Nexter SC Miticide/Insecticide | Pyridaben (A) (129105/96489-71-3)—(42.47%).
SD-090006 | 7969 | Pristine Fungicide | Pyraclostrobin (A) (099100/175013-18-0)—(12.8%), Boscalid (A) (128008/188425-85-6)—(25.2%).
SD-150005 | 7969 | Sharpen Powered by Kixor Herbicide | Saflufenacil (A) (118203/372137-35-4)—(29.74%).
TX-060018 | 279 | Fyfanon ULV AG | Malathion (No Inert Use) (057701/121-75-5)—(96.5%).
TX-170006 | 279 | Fyfanon ULV AG | Malathion (No Inert Use) (057701/121-75-5)—(96.5%).
VA-130006 | 10163 | Malathion 8 | Malathion (No Inert Use) (057701/121-75-5)—(79.5%).
VA-130007 | 10163 | Malathion 8 | Malathion (No Inert Use) (057701/121-75-5)—(79.5%).
WA-020028 | 62719 | Dithane DF Rainshield | Mancozeb (A) (014504/8018-01-7)—(75%).
WA-090020 | 62719 | Dithane F-45 Rainshield | Mancozeb (A) (014504/8018-01-7)—(37%).
WA-120009 | 100 | Gramoxone SL 2.0 | Paraquat dichloride—(30.1%).
WA-150011 | 71711 | Moncut | Flutolanil (A) (128975/66332-96-5)—(70%).
WA-210007 | 91810 | Romeo | Cerevisane (Cell Walls of Saccharomyces Cerevisiae Strain Las117) (100055/)—(94.1%).

Table 2—Product Registration Amendments To Delete Uses
Registration No. | Company No. | Product name | Active ingredient | Uses to be terminated
39967-107 | 39967 | N-2000 Antimicrobial | Dodecylguanidine Hydrochloride (A) (044303/13590-97-1)—(35%) | Removal of sewage disposal lagoon and paint, coating and stain uses.
39967-115 | 39967 | N-2001 Antimicrobial | Dodecylguanidine Hydrochloride (A) (044303/13590-97-1)—(35%) | Removal of sewage disposal lagoon use pattern.
39967-116 | 39967 | Veriguard Plus | Dodecylguanidine Hydrochloride (A) (044303/13590-97-1)—(30%), O-Phenylphenol (No Inert Use) (A) (064103/90-43-7)—(10%) | Removal of textile, metalworking fluid, paints, coatings, and stain and sapstain uses.
39967-124 | 39967 | N-2050 Antimicrobial | Dodecylguanidine Hydrochloride (A) (044303/13590-97-1)—(35%) | Removal of sewage disposal lagoon use pattern.
39967-136 | 39967 | Preventol DP 1021 | Bronopol (A) (216400/52-51-7)—(21%), Dodecylguanidine Hydrochloride (A) (044303/13590-97-1)—(10.5%) | Removal of paints, coatings, and stain use.

Table 3 of this unit includes the names and addresses of record for all registrants of the products in Tables 1 and 2 of this unit, in sequence by EPA company number. This number corresponds to the first part of the EPA registration numbers of the products listed above.

Table 3—Registrants of Cancelled and Amended Products
EPA company No. | Company name and address
100 | Syngenta Crop Protection, LLC, 410 Swing Road, P.O. Box 18300, Greensboro, NC 27419-8300.
279 | FMC Corporation, 2929 Walnut Street, Philadelphia, PA 19104.
7969 | BASF Corporation, Agricultural Products, 26 Davis Drive, P.O. Box 13528, Research Triangle Park, NC 27709-3528.
8660 | United Industries Corp., D/B/A Sylorr Plant Corp., P.O. Box 142642, St. Louis, MO 63114-0642.
9779 | Winfield Solutions, LLC, P.O. Box 64589, St. Paul, MN 55164-0589.
10163 | Gowan Company, LLC, 370 S Main St., Yuma, AZ 85366.
13808 | SD Department of Agriculture & Natural Resources, Foss Bldg., 523 E Capitol Ave., Pierre, SD 57501-3182.
32802 | Howard Johnson's Enterprises, Inc., 9675 S 60th Street, Franklin, WI 53132.
39967 | Lanxess Corporation, 111 RIDC Park West Drive, Pittsburgh, PA 15275-1112.
43670 | Interface Research Corporation, Agent Name: Landis International, Inc., 3185 Madison Highway, P.O. Box 5126, Valdosta, GA 31603-5126.
61842 | Tessenderlo Kerley, Inc., Agent Name: Pyxis Regulatory Consulting, Inc., 4110 136th Street Ct. NW, Gig Harbor, WA 98332.
62719 | Corteva Agriscience, LLC, 9330 Zionsville Road, Indianapolis, IN 46268.
66222 | Makhteshim Agan of North America, Inc., D/B/A Adama, 8601 Six Forks Road, Suite 300, Raleigh, NC 27615.
69969 | Arkion Life Sciences, LLC, Agent Name: Wagner Regulatory Associates, Inc., P.O. Box 640, Hockessin, DE 19707.
71711 | Nichino America, Inc., 4550 Linden Hill Road, Suite 501, Wilmington, DE 19808.
81598 | Albaugh, LLC, 1525 NE 36th Street, Ankeny, IA 50021.
81880 | Canyon Group, LLC, C/O Gowan Company, 370 S Main Street, Yuma, AZ 85364.
91810 | LeSaffre Yeast Corporation, Agent Name: Wagner Regulatory Associates, Inc., 7217 Lancaster Pike, Suite A, P.O. Box 640, Hockessin, DE 19707-0640.

III. Summary of Public Comments Received and Agency Response to Comments

The agency received one comment from American Bird Conservancy agreeing with the cancellations in the notice of March 10, 2023: For this reason, the Agency does not believe that the comment submitted during the comment period merits further review or a denial of the requests for voluntary cancellation and use termination.

IV. Cancellation Order

Pursuant to FIFRA section 6(f) (7 U.S.C. 136d(f)(1)), EPA hereby approves the requested cancellations and amendments to terminate uses of certain pesticide registrations identified in Tables 1 and 2 of Unit II. Accordingly, the Agency hereby orders that the product registrations identified in Tables 1 and 2 of Unit II, are canceled and amended to terminate the affected uses. The effective date of the cancellations that are subject of this notice is August 30, 2023. Any distribution, sale, or use of existing stocks of the products identified in Tables 1 and 2 of Unit II, in a manner inconsistent with any of the provisions for disposition of existing stocks set forth in Unit VI, will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of March 10, 2023 (88 FR 15015) (FRL-10762-01-OCSPP). The comment period closed on April 10, 2023.

VI. Provisions for Disposition of Existing Stocks

Existing stocks are those stocks of registered pesticide products which are currently in the United States, and which were packaged, labeled, and released for shipment prior to the effective date of the action. The existing stocks provision for the products subject to this order is as follows.

For voluntary cancellations, the registrants may continue to sell and distribute existing stocks of products listed in Table 1 until August 30, 2024, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II, under the previously approved labeling until March 3, 2025, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: August 24, 2023.
Charles Smith,
Director, Registration Division, Office of Pesticide Programs.

[FR Doc. 2023-18725 Filed 8-29-23; 8:45 am]

BILLING CODE 6560-50-P